DEPARTMENT OF TRANSPORTATION

[Docket No. OST-2004-19172]

Office of Small & Disadvantaged Business Utilization and Minority Resource Center; Notice of Request for New Data Collection;

AGENCY: Office of the Secretary, DOT.

ACTION: Notice.

SUMMARY: In compliance with the Paperwork Reduction Act of 1995 (44 U.S.C. 3501 et seq.), OSDBU invites public comment on a public information collection, which will be submitted to OMB for approval. Copies of the public information collection may be obtained by contacting Nancy Strine, Manager, Short-term Lending Program, Office of Small and Disadvantaged Business Utilization, U.S. Department of Transportation, 400 Seventh Street, SW., Washington, DC 20590, (202) 366-5344.

DATES: Comments must be received on or before January 14, 2005.

ADDRESSES: You may submit comments identified by DOT DMS Docket Number OST-2004-19172 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. For detailed instructions submitting comments and additional information on the rulemaking process, see the Public Participation heading of the Supplementary Information section of this document. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Nancy Strine, Manager, Short-term Lending Program, Office of Small and Disadvantaged Business Utilization, U.S. Department of Transportation, 400 Seventh Street, SW., Washington, DC 20590, (202) 366-5344.

SUPPLEMENTARY INFORMATION: Title: Short-term Loan Program Online Application.

OMB Control Number: N/A.

Type of Request: New request for data collection.

Abstract: In accordance with 49 U.S.C. 332(b)(2), (5), the Office of Small and Disadvantaged Business Utilization and Minority Resource Center is authorized to facilitate, encourage, promote, and assist minority entrepreneurs and businesses in getting transportation-related contracts, subcontracts, and projects related to those business opportunities. In response to developmental need, the U.S. Department of Transportation (DOT) Short Term Lending Program (STLP) was developed by the Office of Small and Disadvantaged Business Utilization and Minority Resource Center to offer certified Disadvantaged Business Enterprises (DBEs) the opportunity to obtain short-term working capital at prime interest rates for transportation related contracts. DBE firms participating in the STLP program will submit loan applications on-line to participating DOT Preferred Bank Lenders (PBL). The cumulative data collected will be analyzed by the Office of Small and Disadvantaged Business Utilization and Minority Resource Center and PBLs to determine the eligibility of DBEs for revolving lines of credit to finance accounts receivable arising from transportation-related contracts. The information will also be used to increase uniformity among participating PBLs.

Respondents: Disadvantaged Business Enterprises (DBEs).

Estimated Number of Respondents: 50.

Estimated Total Burden on Respondents: 50.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology. All responses to this notice will be summarized and included in the request for OMB approval. All comments will also become a matter of public record.

Issued in Washington, DC, on December 21, 2004.
Sean M. Moss,
Director, Office of Small and Disadvantaged Business Utilization.

[FR Doc. 04-28546 Filed 12-29-04; 8:45 am]

BILLING CODE 4910-62-P